FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Annual Daylight Overdraft Capital Report for U.S. Branches and Agencies of Foreign Banks (FR 2225; OMB No. 7100-0216).

DATES: Comments must be submitted on or before November 28, 2025.

ADDRESSES: You may submit comments, identified by FR 2225, by any of the following methods:

• Agency website: https://www.federalreserve.gov/. Follow the instructions for submitting comments, including attachments. Preferred method.

• Mail: Ann E. Misback, Secretary, Board of Governors of the Federal Reserve System, 20th Street and Constitution Avenue NW, Washington, DC 20551.

• Hand Delivery/Courier: Same as mailing address.

• Other Means: publiccomments@frb.gov. You must include the OMB number or the FR number in the subject line of the message.

Comments received are subject to public disclosure. In general, comments received will be made available on the Board's website at https://www.federalreserve.gov/apps/proposals/ without change and will not be modified to remove personal or business information including confidential, contact, or other identifying information. Comments should not include any information such as confidential information that would not be appropriate for public disclosure. Public comments may also be viewed electronically or in person in Room M-4365A, 2001 C St. NW, Washington, DC 20551, between 9 a.m. and 5 p.m. during Federal business weekdays.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/review or may be requested from the agency clearance officer, whose name appears above. On the page displayed at the link above, you can find the supporting information by referencing the collection identifier, FR 2225. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: Annual Daylight Overdraft Capital Report for U.S. Branches and Agencies of Foreign Banks.

Collection identifier: FR 2225.

OMB control number: 7100-0216.

General description of collection: The Annual Daylight Overdraft Capital Report for U.S. Branches and Agencies of Foreign Banks is required for foreign banking organizations (FBOs) that wish to, and are eligible to, establish a non-zero net debit cap for their U.S. branches and agencies under the Federal Reserve Policy on Payment System Risk (PSR policy).

Proposed revisions: The Board proposes the following changes to the FR 2225 form and instructions that will help clarify ambiguities, and requests additional data fields that will assist Federal Reserve system staff with verifying the information submitted by FBOs. In addition to electronic submission via electronic communication, FBOs will be permitted to submit the FR 2225 through Reporting Central, a platform used for submission of other Federal Reserve reports. The proposed revisions are described below and are intended to be effective March 2026.

Adding institution identifiers—The Board is proposing to add the RSSD ID fields (for both the foreign bank and the U.S. branch or agency responding for the foreign bank) and the ABA Number (for the U.S. branch or agency only). The information will assist staff at the Administrative Reserve Bank to accurately process the submissions in cases such as where the foreign bank has a complex multi-tiered system with multiple U.S. branches of agencies.

Clarifying reporting option 1.b—Currently, the reporting option in 1.b allows the respondents to select one of two options for reporting their worldwide capital “Equity only” or “Total qualifying capital.” The Board is proposing to relabel the reporting option in 1.b from “Equity only” to “Tier 1 capital.” The instructions to the form currently clarify that the “Equity only” option is the core capital under the Basel Capital Accords. Core capital is also known as the Tier 1 capital. The clarification in the form and instructions will help to ensure that respondents report the Tier 1 capital and not the Common Equity Tier 1 Capital (a component of Tier 1) given the reference to “Equity” in the reporting option.

Adding a request that institutions provide supporting documentation—The Board is proposing to add language requesting that the institution attach or provide links to supporting documentation for the figures reported in Items 1 and 2.

Adding a request that respondents identify legal entity reorganizations—The Board is proposing a new field requesting information on whether there have been reorganizations for the foreign banks that have impacted the worldwide capital and, if so, to provide an explanation. Requesting this information will assist staff at the Administrative Reserve Bank with verifying the values provided.

Clarifying the Authorized Officer signature requirement—The Board is clarifying that the Authorized Officer signing the FR 2225 must be listed on the Federal Reserve's Official Authorization List (OAL) and must submit their name and title. Individuals on the OAL are authorized to execute agreements, transact business, and issue instructions on behalf of the respondents. Therefore, this clarification will ensure that an individual has the authority to submit the FR 2225.

Adding clarifying suggestions to fields—The Board is proposing adding suggestions to the response fields by referencing language from the instructions to the FR 2225. In addition, the full date for the fiscal year ending field is required. Further, the FR 2225 respondents are requested to provide full amounts of values without rounding. These clarifications and suggestions will assist the respondents with accurately filing the FR 2225 and will also result in fewer erroneous submissions of data.

Updating contact information fields—The Board is proposing to add an email field for a contact at the responding entity who may be contacted in cases where staff at the Administrative Reserve Bank has a question about the submission.

Allowing submission of the form in Reporting Central—The Board is proposing that respondents will be able to submit the FR 2225 through Reporting Central in addition to the currently-available mechanism for submitting the form as a PDF through electronic mail. Reporting Central will provide an efficient method for submitting the form and any other supporting statements.

Removing address fields for physical submission of the form to the Administrative Reserve Bank—The Board is proposing to eliminate the address fields at the end of the form that correspond to the Administrative Reserve Bank receiving the form. The fields are no longer required given that the FR 2225 will be submitted electronically either via email or through Reporting Central.

Frequency: Annually, event-generated.

Respondents: FBOs with U.S. branches or agencies that wish to and are eligible to establish a non-zero net debit cap for their U.S. branches and agencies under the PSR policy.

Total estimated number of respondents: 48.

Total estimated change in burden: 6.

Total estimated annual burden hours: 45.

Board of Governors of the Federal Reserve System, September 25, 2025.
Erin M. Cayce,
Assistant Secretary of the Board.

[FR Doc. 2025-18875 Filed 9-26-25; 8:45 am]

BILLING CODE 6210-01-P